DEPARTMENT OF TRANSPORTATION

Federal Aviation Administration

14 CFR Part 39

[Docket No. FAA-2005-20868; Directorate Identifier 2004-NM-162-AD]

RIN 2120-AA64

Airworthiness Directives; Fokker Model F.28 Mark 0100 Series Airplanes

AGENCY: Federal Aviation Administration (FAA), Department of Transportation (DOT).

ACTION: Notice of proposed rulemaking (NPRM).

SUMMARY: The FAA proposes to adopt a new airworthiness directive (AD) for all Fokker Model F.28 Mark 0100 series airplanes. This proposed AD would require an inspection to determine the part number of the passenger service unit (PSU) panels for the PSU modification status, and corrective actions if applicable. This proposed AD is prompted by reported incidents of smoke in the passenger compartment during flight. One of those incidents also included a burning smell and consequently led to emergency evacuation of the airplane. We are proposing this AD to prevent overheating of the PSU panel due to moisture ingress, which could result in smoke or fire in the passenger cabin.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Fokker Services B.V., P.O. Box 231, 2150 AE Nieuw-Vennep, the Netherlands.

You can examine the contents of this AD docket on the Internet at http://dms.dot.gov, or in person at the Docket Management Facility, U.S. Department of Transportation, 400 Seventh Street, SW., room PL-401, on the plaza level of the Nassif Building, Washington, DC. This docket number is FAA-2005-20868; the directorate identifier for this docket is 2004-NM-162-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed under ADDRESSES. Include “Docket No. FAA-2005-20868; Directorate Identifier 2004-NM-162-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority—The Netherlands (CAA-NL), which is the airworthiness authority for the Netherlands, notified us that an unsafe condition may exist on certain Fokker Model F.28 Mark 0100 series airplanes, equipped with Grimes Aerospace passenger service unit (PSU) panels having part number (P/N) 10-1178-( ) or 10-1571-( ). The CAA-NL advises that operators have reported incidents of smoke in the passenger compartment during flight. One of those incidents also included a burning smell during flight and consequently led to the airplane's return to the airport and emergency evacuation. Investigation revealed that water leaking onto the electrical connector of the PSU panel could cause overheating of the PSU panel. This condition, if not corrected, could result in smoke or fire in the passenger cabin.

Relevant Service Information

Fokker Services B.V. has issued Service Bulletin SBF100-25-097, dated December 30, 2003. The service bulletin describes procedures for inspecting to determine the part number of the PSU panels for the PSU modification status, and corrective actions if applicable. The corrective actions include the following:

• For Grimes Aerospace PSU panels having P/N 10-1178-() or 10-1571-() that have been reidentified as “REV AE” or “REV C,” as applicable: Sealing the PSU panel/airplane interface connector if necessary, and cleaning the plug and receptacle of the PSU panel/airplane interface connector.

• For Grimes Aerospace PSU panels having P/N 10-1178-() or 10-1571-() that have not been reidentified as “REV AE” or “REV C,” as applicable: Modifying the PSU panel, sealing the PSU panel/airplane interface connector if necessary, and cleaning the plug and receptacle of the PSU panel/airplane interface connector.

Accomplishing the actions specified in the service information is intended to adequately address the unsafe condition. The CAA-NL mandated the service information and issued Dutch airworthiness directive 2004-022, dated February 27, 2004, to ensure the continued airworthiness of these airplanes in the Netherlands.

The Fokker service bulletin refers to Grimes Aerospace Service Bulletin 10-1178-33-0040 (for PSU panel P/N 10-1178-()), Revision 1, dated March 25, 1996; and Service Bulletin 10-1571-33-0041 (for PSU panel P/N 10-1571-()), dated October 15, 1993; as additional sources of service information for modifying the PSU panel.

FAA's Determination and Requirements of the Proposed AD

This airplane model is manufactured in the Netherlands and is type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are proposing this AD, which would require accomplishing the actions specified in the service information described previously, except as discussed under “Differences Between the Proposed AD and Dutch Airworthiness Directive.”

Differences Between the Proposed AD and Dutch Airworthiness Directive

The Dutch airworthiness directive only requires an inspection to determine the modification status of the PSU panels. This proposed AD, however, would require an inspection to determine whether Grimes Aerospace PSU panels having P/N 10-1178-( ) or 10-1571-( ) are installed and the modification status of the PSU panels. Since the PSU panels are a rotatable part, this inspection is necessary to determine whether an airplane is affected by the unsafe condition of this AD.

Costs of Compliance

This proposed AD would affect about 61 airplanes of U.S. registry. The proposed actions would take about 5 work hours per airplane, at an average labor rate of $65 per work hour. Required parts would cost about $6 per airplane. Based on these figures, the estimated cost of the proposed AD for U.S. operators is $20,191, or $331 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2005-20868; Directorate Identifier 2004-NM-162-AD.

Comments Due Date

(a) The Federal Aviation Administration must receive comments on this AD action by May 6, 2005.

Affected ADs

(b) None.

Applicability

(c) This AD applies to all Fokker Model F.28 Mark 0100 series airplanes, certificated in any category.

Unsafe Condition

(d) This AD was prompted by reported incidents of smoke in the passenger compartment during flight. One of those incidents also included a burning smell and consequently led to emergency evacuation of the airplane. We are issuing this AD to prevent overheating of the PSU panel due to moisture ingress, which could result in smoke or fire in the passenger cabin.

Compliance

(e) You are responsible for having the actions required by this AD performed within the compliance times specified, unless the actions have already been done.

Inspection and Corrective Actions If Applicable

(f) Within 36 months after the effective date of this AD, inspect to determine if Grimes Aerospace PSU panels having part number (P/N) 10-1178-( ) or 10-1571-( ) are installed and the PSU modification status if applicable, and do any corrective actions if applicable, by doing all of the actions specified in the Accomplishment Instructions of Fokker Service Bulletin SBF100-25-097, dated December 30, 2003.

Note 1: Fokker Service Bulletin SBF100-25-097, dated December 30, 2003, refers to Grimes Aerospace Service Bulletin 10-1178-33-0040 (for PSU panel P/N 10-1178-( )), Revision 1, dated March 25, 1996; and Service Bulletin 10-1571-33-0041 (for PSU panel P/N 10-1571-( )), dated October 15, 1993, as additional sources of service information for modifying the PSU panel.

Parts Installation

(g) As of the effective date of this AD, no person may install a PSU panel, P/Ns 10-1178-( ) and 10-1571-( ), on any airplane, unless it has been inspected and any corrective actions if applicable have been done in accordance with paragraph (f) of this AD.

Alternative Methods of Compliance (AMOCs)

(h) The Manager, International Branch, ANM-116, Transport Airplane Directorate, FAA, has the authority to approve AMOCs for this AD, if requested in accordance with the procedures found in 14 CFR 39.19.

Related Information

(i) Dutch airworthiness directive 2004-022, dated February 27, 2004, also addresses the subject of this AD.

Issued in Renton, Washington, on March 28, 2005.
Kalene C. Yanamura,
Acting Manager, Transport Airplane Directorate, Aircraft Certification Service.

[FR Doc. 05-6771 Filed 4-5-05; 8:45 am]

BILLING CODE 4910-13-P